ENVIRONMENTAL PROTECTION AGENCY

[EPA-HQ-OPP-2016-0506; FRL-9957-04]

Agency Information Collection Activities; Proposed Renewal of an Existing Collection (EPA ICR No. 2472.02 and OMB Control No. 2070-0191); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Pesticide Spray Drift Reduction Technologies” and identified by EPA ICR No. 2472.02 and OMB Control No. 2070-0191, represents the renewal of an existing ICR that is scheduled to expire on August 31, 2017. Before submitting the ICR to OMB for review and approval, EPA is soliciting comments on specific aspects of the proposed information collection that is summarized in this document. The ICR and accompanying material are available in the docket for public review and comment.

DATES: Comments must be received on or before February 27, 2017.

ADDRESSES: Submit your comments, identified by docket identification (ID) number EPA-HQ-OPP-2016-0506, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Ramé Cromwell, Field and External Affairs Division (7506P), Office of Pesticide Programs, Environmental Protection Agency, 1200 Pennsylvania Ave. NW., Washington, DC 20460-0001; telephone number (703) 308-9068; email address: cromwell.rame@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Pesticide Spray Drift Reduction Technologies.

ICR number: EPA ICR No. 2472.02.

OMB control number: OMB Control No. 2070-0191.

ICR status: This ICR is currently scheduled to expire on August 31, 2017. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: The Environmental Protection Agency (EPA or the Agency) is seeking approval for an ICR. EPA has initiated a voluntary information collection for studies to verify the effectiveness of application technologies for agricultural pesticide sprays that have the potential to significantly reduce pesticide spray drift. The focus of these studies is on technologies, such as spray nozzles, shrouds and shields, and nozzle/drift reducing adjuvant/pesticide formulation specific combinations, which are used for aerial or groundboom applications to row and field crops. Collectively these technologies are referred to as drift reduction technologies (DRTs). This voluntary program encourages the identification and use of DRTs that can substantially reduce drift of pesticide spray droplets from the target application site (e.g., a corn field) downwind to non-target areas. Exposures and adverse effects to humans, wildlife, and crops and other vegetation from pesticide spray drift are well recognized. Published research suggests 1-10% or more of applied agricultural pesticide sprays drift from the target field. EPA has seen data supporting application technologies that will have the potential to significantly reduce the amount of spray drift. Studies conducted to measure spray drift reduction would verify the percent reduction achieved, and thus identify these technologies. EPA, with input from a variety of stakeholders, has developed a testing protocol appropriate to the needs of this voluntary program.

Burden statement: The annual public reporting and recordkeeping burden for this collection of information is estimated to average 124 hours per response for a wind tunnel study and 495 hours per response for a field study. Burden is defined in 5 CFR 1320.3(b).

The ICR, which is available in the docket along with other related materials, provides a detailed explanation of the collection activities and the burden estimate that is only briefly summarized here:

Respondents/Affected Entities: Entities potentially affected by the voluntary collections activities under this ICR include pesticide application equipment manufacturers, chemical manufacturers, pesticide registrants (NAICS code 32532), research and development in the physical, engineering, life sciences (NAICS 541710), and college, universities, and professional schools (NAICS 611310).

Estimated total number of potential respondents: 12 companies.

Frequency of response: On occasion.

Estimated total average number of responses for each respondent: 1.

Estimated total annual burden hours: 1,361 hours.

Estimated total annual costs: $96,250.

There is no cost for capital investment or maintenance and operational costs.

III. Are there changes in the estimates from the last approval?

This represents an increase of 822 hours and $23,250 from the previous Pesticide Spray Drift Reduction Technologies ICR. The change in the burden and costs from the previous ICR are due to an additional field study expected to be submitted; updating cost information for wind tunnel studies; and changing the methodology to calculate the respondent's burden and costs, by using 35% of the total test cost as an estimate of total paperwork costs, then using the cost estimate to back-calculate the burden hour distribution for each labor category using fully loaded wage rates which were updated from the previous ICR. These changes are an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: December 22, 2016.
James Jones,
Assistant Administrator, Office of Chemical Safety and Pollution Prevention.

[FR Doc. 2016-31633 Filed 12-28-16; 8:45 am]

BILLING CODE 6560-50-P